DEPARTMENT OF HEALTH AND HUMAN SERVICES

National Institutes of Health

National Library of Medicine; Amended Notice of Meeting

Notice is hereby given of a change in the meeting of the Commission on Systemic Interoperability, March 15, 2005, 8 a.m. to March 15, 2005, 4 p.m., Hubert H. Humphrey Building, Room 800, 200 Independence Avenue, Washington, DC 20201, which was published in the Federal Register on February 4, 2005, 70 FR 6025.

The meeting location has changed to the National Library of Medicine, Building 38, 2nd Floor Mezzanine, Board Room, 8600 Rockville Pike, Bethesda, Maryland 20894. The meeting is open to the public.

Dated: March 2, 2005.
Anna Snouffer,
Deputy Director, Office of Federal Advisory Committee Policy.

[FR Doc. 05-4569 Filed 3-8-05; 8:45 am]

BILLING CODE 4140-01-M